DEPARTMENT OF HEALTH AND HUMAN SERVICES

[Document Identifier OS-0990-New; 60-Day Notice]

Agency Information Collection Request. 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be directed to the OS Paperwork Clearance Officer at the above e-mail address within 60-days.

Proposed Project: HIV/AIDS Prevention and Support Service for Women Partners of Incarcerated/Recently Released Men—OMB No. 0990-New- Office of Women's Health

Abstract: The mission of the Office on Women's Health (OWH) is to provide leadership to promote health equity for women and girls through sex/gender-specific approaches. To that end, OWH has established public/private partnerships to address critical women's health issues nationwide including cooperative agreements awarded to eight community-based organizations in 2009 to design and implement innovative and gender responsive HIV prevention programs to meet the unique risks and needs of women within their communities who have currently incarcerated or recently released male partners (“women partners”). The information presented in this evaluation study is needed to determine the overarching outcomes of the set of the eight programs. The three-year study will include quantitative data collected at three time points, intervention baseline, post-intervention, and 30 day follow-up. The study will also include qualitative data collected through focus groups facilitated with program participants at each of the eight program sites, as well as interviews with one to two key intervention staff at each of the program sites.

Estimated Annualized Burden Table
Forms | Type of respondent | Number of respondents | Number of responses per respondent | Average burden (in hours) per response | Total burden hours
Baseline Survey | Program Participant | 320 | 1 | 15/60 | 80
Post Intervention Survey | Program Participant | 288 | 1 | 15/60 | 72
30 day Follow-up Survey | Program Participant | 256 | 1 | 15/60 | 64
Focus Group | Program Participant | 64 | 1 | 1.0 | 64
Staff Interview | Intervention Staff | 8 | 1 | 1.0 | 8
Total |  |  |  |  | 288

Mary Forbes,
Paperwork Reduction Act Clearance Officer Office of the Secretary.

[FR Doc. 2011-15077 Filed 6-16-11; 8:45 am]

BILLING CODE 4150-33-P